DEPARTMENT OF HOMELAND SECURITY

Coast Guard

33 CFR Part 165

[Docket No. USCG-2016-0804]

Safety Zone; Portland Dragon Boat Races, Portland, OR

AGENCY: Coast Guard, DHS.

ACTION: Notice of enforcement of regulation.

SUMMARY: The Coast Guard will enforce its Portland Dragon Boat Races safety zone regulations on September 10 and 11, 2016. Our regulations for this safety zone identifies the regulated area for this event. During the enforcement period, no person or vessel may enter or remain in the safety zone without permission from the Sector Columbia River Captain of the Port.

DATES: The regulations in 33 CFR 165.1341 will be enforced from 8 a.m. to 6 p.m., on both September 10, 2016, and September 11, 2016.

FOR FURTHER INFORMATION CONTACT: If you have questions about this notice of enforcement, call or email Mr. Ken Lawrenson, Waterways Management Division, MSU Portland, U.S. Coast Guard; telephone 503-240-9319, email MSUPDXWWM@uscg.mil.

SUPPLEMENTARY INFORMATION: The Coast Guard will enforce the safety zone for the Portland Dragon Boat Races detailed in 33 CFR 165.1341 from 8 a.m. to 6 p.m., on both Saturday, September 10, 2016, and Sunday, September 11, 2016. This action is necessary to ensure the safety of maritime traffic, including public vessels present, on the Willamette River during the Portland Dragon Boat Races. Our regulations for the Portland Dragon Boat Races in § 165.1341 specify the location of the regulated area for this event. Under the provisions of 33 CFR 165.1341 and 33 CFR part 165, subpart C, no person or vessel may enter or remain in the safety zone without permission from the Sector Columbia River Captain of the Port. Persons or vessels wishing to enter the safety zone may request permission to do so from the on-scene Captain of the Port representative via VHF Channel 16 or 13. The Coast Guard may be assisted by other Federal, State, or local enforcement agencies in enforcing this regulation.

This notice of enforcement is issued under the authority of 33 CFR 165.1341 and 5 U.S.C. 552(a). In addition to this notice of enforcement in the Federal Register, the Coast Guard plans to provide notification of this enforcement period via the Local Notice to Mariners and marine information broadcasts.

Dated: August 22, 2016.
W. R. Timmons,
Captain, U.S. Coast Guard, Captain of the Port Sector Columbia River.

[FR Doc. 2016-20480 Filed 8-25-16; 8:45 am]

BILLING CODE 9110-04-P